ENVIRONMENTAL PROTECTION AGENCY

[EPA-HQ-RCRA-2013-0063; FRL-9782-5]

Announcement of Requirements Gathering Meetings for the Electronic Manifest (e-Manifest) System

AGENCY: Environmental Protection Agency (EPA).

ACTION: Notice of public meetings.

SUMMARY: EPA's Office of Resource Conservation and Recovery (ORCR) is holding public meetings in Arlington, Virginia; Chicago, Illinois; and Denver, Colorado to discuss and obtain public input from stakeholders on a national electronic manifest (“e-Manifest”) system to capture information regarding the shipment of hazardous waste from the time it leaves the generator facility where it was produced, until it reaches the off-site waste management facility that will store, treat, or dispose of the hazardous waste. Specifically, the purpose of these meetings is to engage the states, industry, communities, non-governmental organizations, and other stakeholders on what expectations and technical requirements EPA should consider as the agency begins the planning stage of the e-Manifest system development process. EPA envisions that e-Manifest will facilitate the electronic transmittal of manifests throughout the hazardous waste shipping process, including enabling better transparency by sharing data with the public at appropriate stages. Each meeting will be approximately one and one-half days. In order to meet the goals of the meetings, we encourage meeting participants from a variety of professional backgrounds to attend, such as state governmental staff, hazardous waste handlers (generators, transporters, waste management firms) staff, and each of their information technology (IT) staff. EPA will use stakeholder input gathered during these meetings to finalize e-Manifest requirements and prepare for eventual system development.

DATES: EPA will conduct three face-to-face public meetings. The dates and locations for each meeting are as follows:

• February 25-26, 2013: Arlington, Virginia, EPA Headquarters, One Potomac Yard, 2777 S. Crystal Drive, Arlington, VA 22202.

• March 14-15, 2013: Chicago, Illinois, EPA Region 5, Ralph Metcalfe Federal Building, 77 West Jackson Blvd., Chicago, IL 60604-3590.

• March 21-22, 2013: Denver, Colorado, EPA Region 8, 1595 Wynkoop Street, Denver, CO 80202-1129.

FOR FURTHER INFORMATION CONTACT: Kristen Gunthardt, Office of Resource Conservation and Recovery, Program Implementation and Information Division (5303P), Environmental Protection Agency, 1200 Pennsylvania Avenue NW., Washington, DC 20460, telephone number: (703) 347-8955; email address: gunthardt.kristen@epa.gov.

SUPPLEMENTARY INFORMATION:

I. General Information

A. Does this action apply to me?

While the meeting is open to the public in general, the identified topics may be of particular interest to technical staff that manage or work directly with manifest data and processes as well as staff that have specialized understanding of the manifest program and business process. Potentially interested parties may include but are not limited to: IT staff personnel supporting hazardous waste generators, hazardous waste treatment, storage and disposal facilities (TSDFs), and hazardous waste transporters for their respective companies; Federal, State and local environmental and transportation regulators and IT staff; enforcement personnel; non-governmental organizations; and trade associations dealing with hazardous waste transportation issues. People with specific technical expertise, such as computer system specialists, information officers, IT managers and others are encouraged to attend. If you have any questions regarding the applicability of this meeting to a particular entity, organization or occupational discipline, consult the person listed under FOR FURTHER INFORMATION CONTACT.

B. How may I participate in this meeting?

For security purposes, all persons wishing to attend the meetings must register in advance of each meeting. Please visit the following Web site for information on how to register: http://www.epa.gov/osw/hazard/transportation/manifest/e-man.htm.

Access to the meeting for non-registered attendees may be denied by EPA building security or by limited seating capacity. When registering, please provide your name, affiliation, mailing address, telephone number, and email address if you have one. A valid photo ID will be required to gain access to the EPA meeting rooms. Any person needing special accessibility accommodations at this meeting should inform the contact person above when registering. Space for the meetings may be limited; therefore, potential participants are encouraged to attend only one of the three meetings.

C. How can I get copies of this document and other related information?

Docket: EPA has established a docket for this action under Docket ID No. EPA-HQ-RCRA-2013-0063. Publicly available docket materials are available either electronically through www.regulations.gov or in hard copy at the Resource Conservation and Recovery Act (RCRA) Docket in the EPA Docket Center, (EPA/DC) EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the RCRA Docket is (202) 566-0270.

II. Historical Background on e-Manifest Project

For more than a decade, EPA, states, industry, and other stakeholders have sought to transform the hazardous waste manifest system from its current paper-based approach to one that takes greater advantage of electronic information technologies. On May 22, 2001, EPA published a notice of proposed rulemaking that, among other things, proposed revisions to the Federal manifest program aimed at adopting an electronic manifesting approach that would allow waste shipments to be tracked electronically, thereby mitigating the burdens and inefficiencies associated with the use of paper manifest forms (66 FR 28240). Although comments generally supported an electronic tracking scheme, several significant issues were raised that necessitated further analysis and stakeholder outreach prior to adopting a final e-Manifest regulation.

As a result, EPA's ORCR held a two-day public meeting on May 19-20, 2004 to discuss and obtain public input on how best to proceed with the e-Manifest project. During the meeting, stakeholders—including States and the hazardous waste management industry—expressed a strong interest in a uniform national approach to developing an e-Manifest system that would consistently and securely generate and process electronic manifests. Moreover, members of industry who use the manifest indicated that they would be willing to help pay the costs of such a system, perhaps through the assessment of reasonable service fees or by a similar “user pays” approach.

In April 2006, EPA published a follow-up notice to request comment on its preferred approach for electronically completing and transmitting manifests through a national, centralized e-Manifest system (71 FR 19842). The public notice also explained that EPA intended to establish and maintain an e-Manifest system by imposing service fees as a means to fund an information technology contract to build and operate the e-Manifest system. Finally, the notice explained that EPA's ability to proceed with the development of the national e-Manifest system was contingent upon the enactment of new legislation. This legislation would establish EPA's authority to enter into a contract with one or more IT vendors and would provide that the contract would be funded by the e-Manifest service fees. EPA would use these fees for payment of e-Manifest system costs.

On November 19 and 20, 2008, EPA's ORCR held a two-day public meeting in Arlington, VA to begin discussions with state and industry representatives concerning the goals, requirements, and criteria needed for the development of an IT system that would support the e-Manifest and would provide effective implementation of the hazardous waste manifest program. Following the 2008 public meeting, EPA's ORCR held a series of webinars with participants to discuss various topics addressed during the public meeting but which required further input. The webinars took place between April and June of 2009.

On October 5, 2012, the Hazardous Waste Electronic Manifest Establishment Act (“the Act”) was signed into law by the President. The Act authorizes EPA to establish and implement an electronic manifest (e-Manifest) system in partnership with industry and states by 2015. The Act also requires EPA to adopt an e-Manifest regulation authorizing e-Manifests that are created and transmitted through the use of the e-Manifest system by October 5, 2013. The e-Manifests will be deemed as the legal equivalent to Uniform Hazardous Waste Paper Manifest Form and Continuation Sheet (EPA Form 8700-22 and 8700-22a). The scope of e-Manifest will extend to all federally and state regulated wastes that require a manifest; use of e-Manifest, however, is optional to users. Although the Act states use of e-Manifest is optional, the Act authorizes EPA to collect e-Manifests and paper manifests in the system. Therefore, EPA intends to collect all manifests, both electronic and paper formats, in the system. For further information regarding the Hazardous Waste Electronic Manifest Act and the e-Manifest project in general, please refer to the following EPA Web site: http://www.epa.gov/epawaste/hazard/transportation/manifest/e-man.htm.

III. Current Activities on e-Manifest Project

Pursuant to the Act, EPA has begun its initial planning phase to begin the development and ultimately the deployment of the e-Manifest system by 2015. The purpose of the three face-to-face requirements gathering meetings is to continue with efforts conducted during previous public meetings and webinars by engaging stakeholders on current expectations and technical requirements for the e-Manifest system. The goals of the meetings will be to obtain input from future users as to their needs and the capability of the IT system to address performance standards for the success of an e-Manifest system. Additionally, EPA will be gathering input from stakeholders on what technical requirements or tools the agency should consider to ensure that it also establishes an IT reporting system that will enhance access to the data (including to states and the general public).

The topics of discussions at these meetings will cover the following functional requirements:

• e-Manifest workflow, including mobile field component and handler submission;

• e-Manifest business rule processing;

• Electronic signature (e-signature) and Cross-Media Electronic Reporting Regulation (CROMERR) conformance;

• Paper manifest processing;

• Data access and reporting;

• State data consumption and interaction;

• Data QA; and

• User administration and security.

EPA is currently determining the actual format and agenda for the meetings. It anticipates that each of the meetings will have a similar agenda, which will further our intent to provide multiple opportunities for stakeholder participation. Therefore, it is only necessary for participants to attend one of the three meetings.

All up to date information, including advanced copies of meeting materials and meeting logistics, is available on our Web site: http://www.epa.gov/osw/hazard/transportation/manifest/e-man.htm.

EPA will use stakeholder input gathered during these meetings to finalize the e-Manifest requirements and prepare for eventual system development.

Dated: February 5, 2013.
Suzanne Rudzinski,
Director, Office of Resource Conservation and Recovery.

[FR Doc. 2013-03838 Filed 2-19-13; 8:45 am]

BILLING CODE 6560-50-P